SECURITIES AND EXCHANGE COMMISSION

[Release No. 34-46858A; File No. SR-NYSE-2002-36]

Self-Regulatory Organizations; Notice of Filing of Proposed Rule Change by the New York Stock Exchange, Inc. to Adopt Amendments to Exchange Rule 342 (“Offices—Approval, Supervision and Control”) and its Interpretation, Rule 401 (“Business Conduct”), Rule 408 (“Discretionary Power in Customers' Accounts”), and Rule 410 (“Records of Orders”)

November 27, 2002.

Correction

In Release No. 34-46858, issued on November 20, 2002, a portion of the rule text for New York Stock Exchange rule 401 was noticed incorrectly. The corrected text appears below. Additions are in italics; deletions are in brackets.

* * * * *

Business Conduct

Rule 401.(a)-(b) no change.

The policies and procedures required under (b)(1), (b)(2), and (b)(3) above must include a means/method of customer confirmation, notification, or follow-up that can be documented.

* * * * *

For the Commission, by the Division of Market Regulation, pursuant to delegated authority.¹
¹ 17 CFR 200.30-3(a)(12).
Margaret H. McFarland,
Deputy Secretary.

[FR Doc. 02-30677 Filed 12-3-02; 8:45 am]

BILLING CODE 4010-01-M